DEPARTMENT OF ENERGY

Energy Information Administration

Agency Information Collection Activities: Submission for OMB Review; Comment Request

AGENCY: Energy Information Administration (EIA), Department of Energy (DOE).

ACTION: Agency information collection activities: Submission for OMB review; comment request.

SUMMARY: The EIA has submitted the Petroleum Supply Reporting System surveys to the Office of Management and Budget (OMB) for review and a three-year extension under section 3507(h)(1) of the Paperwork Reduction Act of 1995 (Pub. L. 104-13) (44 U.S.C. 3501 et seq.).

DATES: Comments must be filed by November 20, 2003. If you anticipate that you will be submitting comments but find it difficult to do so within that period, you should contact the OMB Desk Officer for DOE listed below as soon as possible.

ADDRESSES: Send comments to Bill Nickerson, OMB Desk Officer for DOE, Office of Information and Regulatory Affairs, Office of Management and Budget. To ensure receipt of the comments by the due date, submission by FAX (202-395-7285) or e-mail (William_Nickerson@omb.eop.gov) is recommended. The mailing address is 726 Jackson Place NW., Washington, DC 20503. The OMB DOE Desk Officer may be telephoned at 202-395-7151 (A copy of your comments should also be provided to EIA's Statistics and Methods Group at the address below.)

FOR FURTHER INFORMATION CONTACT: Requests for additional information should be directed to Herbert Miller. To ensure receipt of the comments by the due date, submission by FAX (202-287-1705) or e-mail (herbert.miller@eia.doe.gov) is recommended. The mailing address is Statistics and Methods Group (EI-70), Forrestal Building, U.S. Department of Energy, Washington, DC 20585-0670. Mr. Miller may be contacted by telephone at (202) 287-1711.

SUPPLEMENTARY INFORMATION: This section contains the following information about the energy information collection submitted to OMB for review: (1) The collection numbers and title; (2) the sponsor (i.e., the Department of Energy component); (3) the current OMB docket number (if applicable); (4) the type of request (i.e., new, revision, extension, or reinstatement); (5) response obligation (i.e., mandatory, voluntary, or required to obtain or retain benefits); (6) a description of the need for and proposed use of the information; (7) a categorical description of the likely respondents; and (8) an estimate of the total annual reporting burden (i.e., the estimated number of likely respondents times the proposed frequency of response per year times the average hours per response).

1. The Petroleum Supply Reporting System includes the following surveys:

EIA-800, Weekly Refinery and Fractionator Report (previously Weekly Refinery Report),

EIA-801, Weekly Bulk Terminal Report,

EIA-802, Weekly Product Pipeline Report,

EIA-803, Weekly Crude Oil Stocks Report,

EIA-804, Weekly Imports Report,

EIA-810, Monthly Refinery Report,

EIA-811, Monthly Bulk Terminal Report,

EIA-812, Monthly Product Pipeline Report,

EIA-813, Monthly Crude Oil Report,

EIA-814, Monthly Imports Report,

EIA-816, Monthly Natural Gas Liquids Report,

EIA-817, Monthly Tanker and Barge Movement Report,

EIA-819, Monthly Oxygenate Report, (previously EIA-819M, Monthly Oxygenate Telephone Report), and

EIA-820, Annual Refinery Report.

New Surveys Proposed

EIA-805, Weekly Terminal Blenders Report

EIA-815, Monthly Terminal Blenders Report

2. Energy Information Administration.

3. OMB Number 1905-0165.

4. Revision.

5. Mandatory.

6. EIA's Petroleum Supply Reporting System collects information needed for determining the supply and disposition of crude oil, petroleum products, and natural gas liquids. The data are published by EIA and are used by public and private analysts. Respondents are operators of petroleum refineries, blending plants, bulk terminals, crude oil and product pipelines, natural gas plant facilities, tankers, barges, and oil importers.

7. Business or other for profit; Federal Government; and State, Local or Tribal Government.

8. 83,289 hours (2,590 respondents times 19.37 responses per year times 1.66 hours per response).

The Office of Oil and Gas has made minor modifications subsequent to those proposed in the FR notice for public comments. These additional changes are based upon comments received in response to the FR notice, along with changes in the industry.

These new changes are:

(1) EIA-819—delete the “isobutylene” category from the motor gasoline blending component production

(2) EIA-811—Add the category “unfinished oils” with the following subcategories:

a. Naphthas and Lighter

b. Kerosene and Light Gas Oils

c. Heavy Gas Oils

d. Residuum

(3) EIA-803 and EIA-813—Add a line for crude oil stocks at Cushing, Oklahoma

(4) EIA-811—Collect the volumes of ultra-low sulfur distillate fuel oil (15 ppm and under) downgraded at bulk terminals by PAD District. Downgraded volumes include motor vehicle diesel fuel that was designated as meeting the 15 ppm sulfur standard when it was produced or imported but was later commingled with motor vehicle diesel fuel meeting the 500 ppm sulfur standard. Downgrading of motor vehicle diesel fuel meeting the 15 ppm sulfur standard may occur because the fuel became mixed with higher-sulfur product in pipelines (i.e. pipeline interface/transmix) or because sulfur was picked up at other points in the petroleum distribution system (e.g. tanks, valves, manifolds) causing the fuel to exceed the 15 ppm sulfur standard.

Please refer to the supporting statement as well as the proposed forms and instructions for more information about the purpose, who must report, when to report, where to submit, the elements to be reported, detailed instructions, provisions for confidentiality, and uses (including possible nonstatistical uses) of the information. For instructions on obtaining materials, see the FOR FURTHER INFORMATION CONTACT section.

Statutory Authority: Section 3507(h)(1) of the Paperwork Reduction Act of 1995 (Pub. L. 104-13)(44 U.S.C. 3501 et seq.).

Issued in Washington, DC, October 15, 2003.
Jay H. Casselberry,
Agency Clearance Officer, Statistics and Methods Group, Energy Information Administration.

[FR Doc. 03-26518 Filed 10-20-03; 8:45 am]

BILLING CODE 6450-01-P